DEPARTMENT OF TRANSPORTATION

Transportation Security Administration

[Docket No. TSA-2002-12394]

Aviation Security: Security Program for Certain Private Charter Operations

AGENCY: Transportation Security Administration (TSA), DOT.

ACTION: Notice.

SUMMARY: This notice extends the date on which aircraft operators engaged in non-governmental private charter passenger operations on large aircraft must be in compliance with the final private charter security program, from February 1 to April 1, 2003.

DATES: Security program compliance date: April 1, 2003.

FOR FURTHER INFORMATION CONTACT: Lon Siro or Gail Richards by telephone: (571) 227-2217 or (571) 227-2216 respectively; by e-mail lon.siro@tsa.dot.gov or gail.richards@tsa.dot.gov. You may also mail any comments or questions concerning this action to Lon Siro or Gail Richards, Aviation Operations, Room 11080S, East Tower, Transportation Security Administration, 400 Seventh Street, SW., Washington, DC 20591.

SUPPLEMENTARY INFORMATION: On June 19, 2002, TSA published a final rule in the Federal Register (67 FR 41635) that, in part, requires new security measures for non-governmental private charter passenger operations in certain large aircraft. Under the rule, these operators must adopt and carry out a security program approved by TSA to ensure that passengers and their accessible property are screened prior to boarding. The effective date of the rule was August 19, 2002, and this document does not change that effective date.

On August 28, 2002, TSA published a notice (67 FR 55309) that established a schedule for affected operators to comment on the proposed security program and a date on which affected operators would have to be in compliance with the final approved security program. The compliance date for the final security program was set for February 1, 2003.

In addition, on December 31, 2002 (67 FR 79881), TSA published an amendment to the final rule in response to comments received, which altered the aircraft subject to the rule. The private charter security standards now apply to non-governmental private charter operations in aircraft with a maximum certificated takeoff weight greater than 45,500 kg or a seating configuration of 61 or more.

Security programs constitute sensitive security information (SSI), which can be disclosed only to persons with a need to know, in accordance with 49 CFR part 1520. Therefore, the proposed private charter security program was distributed for comment only to the operators subject to the rule. TSA received comments on the proposed security program and has amended the program, where appropriate, to accommodate the comments received. TSA is in the process of providing the final security program to affected entities, and has completed a training program for the operators to use to ensure that they operate in accordance with the security program. However, the affected operators have not had sufficient time to complete the training and establish a compliant security program. Therefore, TSA is extending the date for compliance to April 1, 2003.

Issued in Washington, DC, on January 30, 2003.
Stephen J. McHale,
Deputy Administrator.

[FR Doc. 03-2799 Filed 1-31-03; 3:51 pm]

BILLING CODE 4910-62-P